DEPARTMENT OF COMMERCE

International Trade Administration

[A-570-909, A-520-802]

Certain Steel Nails From the People's Republic of China and the United Arab Emirates: Postponement of Preliminary Determinations of Antidumping Duty Investigations

AGENCY: Import Administration, International Trade Administration, Department of Commerce.

DATES: Effective Dates: November 9, 2007.

FOR FURTHER INFORMATION CONTACT: Nicole Bankhead (PRC) (202) 482-9068 or David Goldberger (UAE) (202) 482-4136; AD/CVD Operations, Import Administration, International Trade Administration, U.S. Department of Commerce, 14th Street and Constitution Avenue, NW., Washington DC 20230.

SUPPLEMENTARY INFORMATION:

Postponement of Preliminary Determinations

On July 9, 2007, the Department of Commerce (“the Department”) initiated antidumping duty investigations of imports of certain steel nails from the People's Republic of China (“PRC”) and the United Arab Emirates (“UAE”). See Certain Steel Nails from the People's Republic of China and the United Arab Emirates: Initiation of Antidumping Duty Investigations, 72 FR 38816 (July 16, 2007). The notice of initiation stated that we would issue our preliminary determinations no later than 140 days after the date of initiation. Currently, the preliminary determinations in these investigations are due on November 26, 2007.

On November 1, 2007, the petitioners ¹ made timely requests, pursuant to 19 CFR 351.205(e), for a 50-day postponement of the preliminary determinations in the investigations, pursuant to section 733(c)(1)(A) of the Tariff Act of 1930, as amended (“the Act”). The petitioners stated that a postponement of these preliminary determinations is necessary because of the complexities of the investigations and the required analyses for them, and because the Department is still involved in gathering initial data from the respondents.

¹ Mid Continent Nail Corporation, Davis Wire Corporation, Gerdau Ameristeel Corporation (Atlas Steel & Wire Division), Maze Nails (Division of W.H. Maze Company), Treasure Coast Fasteners, Inc., and the United Steel, Paper and Forestry, Rubber, Manufacturing, Energy, Allied Industrial and Service Workers International Union.

Under section 733(c)(1)(A) of the Act, if the petitioner makes a timely request for an extension of the period within which the preliminary determination must be made under subsection (b)(1), then the Department may postpone making the preliminary determination under subsection (b)(1) until not later than the 190th day after the date on which the administering authority initiated the investigation. Therefore, for the reasons identified by the petitioners and because there are no compelling reasons to deny their requests, the Department is postponing the preliminary determinations in these investigations until January 15, 2008, which is 190 days from the date on which the Department initiated these investigations.

The deadline for the final determinations will continue to be 75 days after the date of the preliminary determinations, unless extended.

This notice is issued and published pursuant to section 733(c)(2) of the Act and 19 CFR 351.205(f)(1).

Dated: November 5, 2007.
Stephen J. Claeys,
Acting Assistant Secretary for Import Administration.

[FR Doc. E7-22049 Filed 11-8-07; 8:45 am]

BILLING CODE 3510-DS-P